NUCLEAR REGULATORY COMMISSION

Advisory Committee on the Medical Uses of Isotopes: Meeting Notice

AGENCY: U.S. Nuclear Regulatory Commission.

ACTION: Notice of meeting.

SUMMARY: The U.S. Nuclear Regulatory Commission (NRC) will convene a teleconference meeting of the Advisory Committee on the Medical Uses of Isotopes (ACMUI) on March 5, 2013, to discuss the draft report of the ACMUI Rulemaking Subcommittee that was formed to provide comments to the NRC staff on the proposed changes to 10 CFR Part 35. Contingent upon the outcome of the March 5, 2013, the NRC will also convene a second teleconference of the ACMUI on March 12, 2013, to further discuss the ACMUI Rulemaking Subcommittee Report. A copy of the agenda for each meeting will be available at http://www.nrc.gov/reading-rm/doc-collections/acmui/agenda. Handouts for each of the meetings will be available at http://www.nrc.gov/reading-rm/doc-collections/acmui/meeting-slides/. The agenda(s) and handouts may also by obtained by contacting Ms. Sophie Holiday using the information below.

DATES: The teleconference meeting will be held on Tuesday, March 5, 2013, 2:00 p.m. to 5:00 p.m. Eastern Standard Time (EST). The second teleconference meeting will be held on Tuesday, March 12, 2013, 2:00 p.m. to 5:00 p.m. Eastern Standard Time (EST).

Public Participation: Any member of the public who wishes to participate in the teleconference discussions should contact Ms. Holiday using the contact information below.

Contact Information: Sophie Holiday, email: sophie.holiday@nrc.gov, telephone: (301) 415-7865.

Conduct of the Meeting

Leon S. Malmud, M.D., will chair the meeting. Dr. Malmud will conduct the meeting in a manner that will facilitate the orderly conduct of business. The following procedures apply to public participation in the meeting:

1. Persons who wish to provide a written statement should submit an electronic copy to Ms. Holiday at the contact information listed above. All submittals must be received by February 28, three business days prior to the meeting, and must pertain to the topic on the agenda for the meeting.

2. Questions and comments from members of the public will be permitted during the meetings, at the discretion of the Chairman.

3. The transcript will be available on the ACMUI's web site (http://www.nrc.gov/reading-rm/doc-collections/acmui/tr/) approximately 30 calendar days following the meeting, on April 5, 2013 and April 12, 2013. A meeting summary will be available approximately 30 business days following the meeting, on April 16, 2013 and April 23, 2013.

The meetings will be held in accordance with the Atomic Energy Act of 1954, as amended (primarily Section 161a); the Federal Advisory Committee Act (5 U.S.C. App); and the Commission's regulations in Title 10, U.S. Code of Federal Regulations, Part 7.

Dated: January 28, 2013.
Andrew L. Bates,
Advisory Committee Management Officer.

[FR Doc. 2013-02178 Filed 1-31-13; 8:45 am]

BILLING CODE 7590-01-P